DEPARTMENT OF HEALTH AND HUMAN SERVICES

Meeting of the Advisory Committee on Blood Safety and Availability

AGENCY: Department of Health and Human Services, Office of the Secretary.

ACTION: Notice.

SUMMARY: As stipulated by the Federal Advisory Committee Act, the U.S. Department of Health and Human Services is hereby giving notice that the Advisory Committee on Blood Safety and Availability (ACBSA) will hold a meeting. The meeting will be open to the public.

DATES: The meeting will take place Wednesday, January 9, 2008 and Thursday, January 10, 2008 from 9 a.m. to 5 p.m.

ADDRESSES: The Westin Washington, DC City Center, 1400 M Street, NW., Washington, DC 20005. Phone: (202) 429-1700.

FOR FURTHER INFORMATION CONTACT: Jerry A. Holmberg, PhD, Executive Secretary, Advisory Committee on Blood Safety and Availability, Office of Public Health and Science, Department of Health and Human Services, 1101 Wootton Parkway, Room 250, Rockville, MD 20852, (240) 453-8803, Fax (240) 453-8456, e-mail ACBSA@hhs.gov.

SUPPLEMENTARY INFORMATION: Since the early 1980s there has been a heightened awareness of transfusion and transplantation safety. The formation of the ACBSA directly resulted out of concern regarding infectious diseases and the safety of the blood supply. At this session of the ACBSA, the Committee will discuss further safety developments to enhance transfusion and transplantation safety. These discussions will include the current landscape and residual risk of known and unknown pathogens. In addition, the Committee will look at needs and barriers to potential opportunities in donor screening and technologies for pathogen reduction.

The public will be given opportunity to provide comments to the Committee on January 9 and 10, 2008. Comments will be limited to five minutes per speaker. Anyone planning to comment is encouraged to contact the Executive Secretary at his/her earliest convenience. Those who wish to have printed material distributed to Advisory Committee members should submit, at a minimum, one copy of the material, to the Executive Secretary prior to close of business January 7, 2008. Likewise, those who wish to utilize electronic data projection to the Committee must submit their materials to the Executive Secretary prior to close of business January 7, 2008.

Dated: November 13, 2007.
Jerry A. Holmberg,
Executive Secretary, Advisory Committee on Blood Safety and Availability.

[FR Doc. E7-22653 Filed 11-19-07; 8:45 am]

BILLING CODE 4150-41-P